DEPARTMENT OF STATE

[Public Notice 5588]

Announcement of Meetings of the International Telecommunication Advisory Committee

SUMMARY: This notice announces several meetings of the International Telecommunication Advisory Committee (ITAC).

The International Telecommunication Advisory Committee (ITAC) will meet to prepare advice on proposed U.S. contributions to the Permanent Executive Committee of the Organization of American States Inter-American Telecommunication Commission (COM/CITEL) on Wednesday November 29, 2006 2-4 p.m. eastern time in the Washington DC metro area.

The International Telecommunication Advisory Committee (ITAC) will meet to prepare advice on proposed U.S. contributions to Study Group 17 (Security, languages and telecommunication software) of the International Telecommunication Union's Telecommunication Standardization Sector on Tuesday November 14, 2006 from 10-noon eastern time by conference call.

The International Telecommunication Advisory Committee (ITAC) will meet to prepare advice on proposed U.S. contributions to the Committee on Information Services and Policy (CISP) and Working Party on the Information Economy (WPIE) meetings of the Organization for Economic Co-operation and Development (OECD) on November 16 and 30, 2006 10:30 a.m.-noon eastern time in room 2533A in the Harry S Truman State Department building.

These meetings are open to the public, and conference bridges may be available. Further information may be obtained from the Secretariat minardje@state.gov, telephone 202-647-3234.

Date: October 23, 2006.
Anne D. Jillson,
Foreign Affairs Officer, International Communications & Information Policy, Multilateral Affairs, Department of State.

[FR Doc. E6-18269 Filed 10-30-06; 8:45 am]

BILLING CODE 4710-07-P